ENVIRONMENTAL PROTECTION AGENCY

40 CFR Part 62

[EPA-R05-OAR-2012-0086; FRL-9663-3]

Direct Final Approval of Hospital/Medical/Infectious Waste Incinerators State Plan for Designated Facilities and Pollutants: Indiana

AGENCY: Environmental Protection Agency (EPA).

ACTION: Proposed rule.

SUMMARY: EPA is proposing to approve, through direct final rulemaking, Indiana's revised State Plan to control air pollutants from Hazardous/Medical/Infectious Waste Incinerators (HMIWI). The Indiana Department of Environmental Management submitted the revised State Plan on December 19, 2011, following the required public process. The revised State Plan is consistent with Emission Guidelines promulgated by EPA on October 6, 2009. This approval means that EPA finds that the revised State Plan meets applicable Clean Air Act requirements for subject HMIWI units. Once effective, this approval also makes the revised State Plan Federally enforceable.

DATES: Comments must be received on or before May 24, 2012.

ADDRESSES: Submit your comments, identified by Docket ID No. EPA-R05-OAR-2012-0086, by one of the following methods:

1. www.regulations.gov: Follow the on-line instructions for submitting comments.

2. Email: nash.carlton@epa.gov.

3. Fax: (312) 886-6030.

4. Mail: Carlton T. Nash, Chief, Toxics and Global Atmosphere Section, Air Toxics and Assessment Branch (AT-18J), U.S. Environmental Protection Agency, 77 West Jackson Boulevard, Chicago, Illinois 60604.

5. Hand Delivery: Carlton T. Nash, Chief, Toxics and Global Atmosphere Section, Air Toxics and Assessment Branch (AT-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Please see the direct final rule which is located in the Rules section of this Federal Register for detailed instructions on how to submit comments.

FOR FURTHER INFORMATION CONTACT: Margaret Sieffert, Environmental Engineer, Environmental Protection Agency, Region 5, 77 West Jackson Boulevard (AT-18J), Chicago, Illinois 60604, (312) 353-1151, sieffert.margaret@epa.gov.

SUPPLEMENTARY INFORMATION: In the Rules section of this Federal Register, EPA is approving the State's submittal as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: April 9, 2012.
Susan Hedman,
Regional Administrator, Region 5.

[FR Doc. 2012-9722 Filed 4-23-12; 8:45 am]

BILLING CODE 6560-50-P